NUCLEAR REGULATORY COMMISSION

[NRC-2012-0220]

Standard Review Plan for License Applications for Fuel Cycle Facilities

AGENCY: Nuclear Regulatory Commission.

ACTION: Draft NUREG; request for comment.

SUMMARY: The U.S. Nuclear Regulatory Commission (NRC) is issuing for public comment a draft NUREG-1520, Revision 2, titled “Standard Review Plan [SRP] for License Applications for Fuel Cycle Facilities.” This SRP provides NRC staff guidance for reviewing and evaluating the safety, health, security and environmental protection aspects of applications for licenses to possess and use special nuclear material (SNM) at fuel cycle facilities.

DATES: Submit comments by September 3, 2014. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2012-0220. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN, 06-A44, U.S. Nuclear Regulatory Commission, Washington, DC 20555-0001.

For additional direction on obtaining information and submitting comments, see “Obtaining Information and Submitting Comments” in the SUPPLEMENTARY INFORMATION section below.

FOR FURTHER INFORMATION CONTACT: Soly I. Soto, Office of Nuclear Material Safety and Safeguards, U.S. Nuclear Regulatory Commission, Washington DC 20555-0001; telephone: 301-287-9076, email: Soly.Soto@nrc.gov.

SUPPLEMENTARY INFORMATION:

I. Accessing Information and Submitting Comments

A. Accessing Information

Please refer to Docket ID NRC-2012-0220 when contacting the NRC about the availability of information regarding NUREG-1520. You may access publicly-available information related to this action by the following methods:

• Federal Rulemaking Web site: Go to http://www.regulations.gov and search for Docket ID NRC-2012-0220.

• NRC's Agencywide Documents Access and Management System (ADAMS): You may access publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Draft NUREG-1520, Revision 2, is available in ADAMS under Accession No. ML14150A417.

• NRC's PDR: You may examine and purchase copies of public documents at the NRC's PDR, Room O1-F21, One White Flint North, 11555 Rockville Pike, Rockville, Maryland 20852.

B. Submitting Comments

Please include Docket ID NRC-2012-0220 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

Licenses to possess and use SNM are governed by part 70 of Title 10 of the Code of Federal Regulations (10 CFR). On December 7, 2012 (77 FR 73060), the NRC staff outlined its plans to revise NUREG-1520, Revision 1, “Standard Review Plan for the Review of a License Application for a Fuel Cycle Facility,” dated May 2010. The NRC staff received comments in response to the December 2012 notice. In this regard, on April 11, 2013, the NRC staff held a Category 2 public meeting which included a discussion of the outlined plan to revise NUREG-1520 and the comments received from the industry. At the April meeting, the NRC staff discussed a staff requirements memorandum (SRM) dated October 9, 2012 (SRM-SECY-120091), in which the Commission directed the NRC staff to request the American Nuclear Society (ANS) to develop an integrated safety analysis (ISA) standard that would improve the quality and completeness of ISAs. The SRM also directed the NRC staff to refrain from revising NUREG-1520 on ISA topics until after the ANS standard is issued. Accordingly, the NRC staff is not proposing to make any significant changes to SRP Chapter 3, “Integrated Safety Analysis and Integrated Safety Analysis Summary,” at this time. Changes to Chapter 3 are primarily to improve readability, rather than a change in guidance. A more complete summary of the April 11, 2013, meeting is available in ADAMS under Accession No. ML13113A251.

The draft of SRP Revision 2 clarifies the existing SRP discussion in several technical areas, including nuclear criticality safety and management measures, as summarized below. Draft Chapter 5, “Nuclear Criticality Safety,” contains an expanded discussion of the double contingency principle and double contingency protection, including a description of what constitutes a loss of double contingency. Draft Chapter 11, “Management Measures,” includes a discussion of graded management measures and the selection of items relied on for safety that relate to the application of graded management measures.

The draft of SRP Revision 2 contains two new chapters: Chapter 12, “Material Control and Accounting,” regarding 10 CFR part 74 requirements; and Chapter 13, “Physical Protection,” regarding 10 CFR part 73 requirements. These new chapters are needed because they address requirements that are referenced in 10 CFR 70.22, “Contents of applications.”

The draft of SRP Revision 2 includes administrative changes throughout the SRP to ensure consistency among the SRP chapters, improve clarity of the text, reduce redundancies, and assure that statutory, regulatory, and guidance document references are accurate and up to date. The title of this SRP was revised from “Standard Review Plan for the Review of a License Application for a Fuel Cycle Facility” to “Standard Review Plan for License Applications for Fuel Cycle Facilities.”

Dated at Rockville, Maryland, this 21st day of May 2014.
For the Nuclear Regulatory Commission.
Marissa G. Bailey,
Director, Division of Fuel Cycle Safety and Safeguards, Office of Nuclear Material Safety and Safeguards.

[FR Doc. 2014-13077 Filed 6-4-14; 8:45 am]

BILLING CODE 7590-01-P